DEPARTMENT OF TRANSPORTATION

Federal Railroad Administration

Notice of Funds Availability for the Next Generation High-Speed Rail Program: Revenue Service Demonstration of Compliant Diesel Multiple Unit (DMU) Self-Propelled Passenger Cars

AGENCY: Federal Railroad Administration (FRA), Department of Transportation (DOT).

ACTION: Notice.

SUMMARY: Under this Notice, the FRA encourages interested parties to submit by April 23, 2004, a Statement of Interest in receiving a grant to support a demonstration in daily revenue commuter or intercity passenger service, beginning in calendar year 2004, of Diesel Multiple Unit (DMU) self-propelled passenger rail cars which comply with all current Federal passenger car safety standards (“Compliant DMU”). The purpose of the demonstration is to determine the current availability of Compliant DMU technology and the suitability of this equipment for regularly scheduled revenue service in the U.S. The subject Compliant DMU must meet all of the current requirements of 49 CFR part 238, as amended; compliance via “grandfathering” is not acceptable for the purposes of this announcement.

DATES: All submissions of Statements of Interest must be received in FRA's offices by close of business Thursday, April 23, 2004. The deadline for the submission of applications will be noted in the solicitation from FRA to prospective grantees as a result of the evaluation of the Statements of Interest.

ADDRESSES: Applicants must submit an original and six (6) copies to the Federal Railroad Administration at one of the following addresses:

Postal address (note correct ZIP Code): Federal Railroad Administration, Attention: Robert L. Carpenter, Office of Procurement Services (RAD-30), Mail Stop #50, 1120 Vermont Ave., NW., Washington, DC 20590.

FedEx/courier address (note correct ZIP Code): Federal Railroad Administration, Attention: Robert L. Carpenter, Office of Procurement Services (RAD-30), Room # 6126, 1120 Vermont Ave., NW., Washington, DC 20005.

Due to delays caused by enhanced screening of mail delivered via the U.S. Postal Service, applicants are encouraged to use other means to assure timely receipt of materials.

FOR FURTHER INFORMATION CONTACT: Steve Sill, Program Manager, Office of Railroad Development (RDV-11), Federal Railroad Administration, 1120 Vermont Avenue, NW., Washington, DC 20590. Phone: (202) 493-6348; Fax: (202) 493-6330, or Robert Carpenter, Grants Officer, Office of Acquisition and Grants Services (RAD-30), Federal Railroad Administration, 1120 Vermont Avenue, NW., Washington, DC 20590. Phone: (202) 493-6153; Fax: (202) 493-6171.

SUPPLEMENTARY INFORMATION: The demonstration will be supported with up to $4,970,500 of Federal funds provided to FRA's Next Generation High-Speed Rail Program, as part of the Transportation, Treasury, and Independent Agencies Appropriations Act, 2004 (included as Division F of the Consolidated Appropriations Act, 2004 (Pub. L. 108-199 (January 23, 2004)). The Federal funds must be matched on a dollar-for-dollar basis from non-Federal sources. FRA anticipates soliciting one or two grant applications and awarding one or two grants for the demonstration to eligible participants, with the intent of beginning demonstration during calendar year 2004. The funds made available under this grant will be available for activities related to establishing compliance of the DMU design with existing Federal passenger safety standards (49 CFR part 238, as amended), for the acquisition of DMUs through a conventional competitive procurement process, and for service facilities necessary for revenue service demonstration. The grantee will be responsible for all other expenses of the demonstration, including the cost of passenger facilities and any net operating expenses. FRA anticipates that no further public notice will be made with respect to selecting applicants for this demonstration.

Purpose: There is substantial interest in the expanded use of passenger rail service to help address congestion in other modes of transportation and/or to provide for additional alternatives to meet current and future mobility needs. Transportation planners and decision makers have expressed an interest in alternatives to locomotive hauled trains, which are currently the most prevalent form of passenger rail transportation in areas where electric operation is not available. Historically, DMUs were available for this purpose, but none has entered service domestically since FRA issued the Passenger Equipment Safety Standards Final Rule on May 12, 1999. Indeed, no DMUs had been built new in the U.S. for decades before the issuance of that rule. The purpose of the demonstration is to determine whether the current state of railroad technology development offers the availability, in the very near term, of a DMU self-propelled passenger car that meets current Federal passenger car safety standards found at 49 CFR part 238, as amended. If such technology is available, the demonstration will develop technology-specific cost, maintenance, reliability and operating data to help transportation planners and decision makers determine whether a Compliant DMU should be considered as an option for rail-based transportation. The equipment must meet all of the current requirements of 49 CFR part 238, as amended; compliance via “grandfathering” is not acceptable for the purposes of this announcement.

Authority: The authority for the Program can be found in title 49, United States Code, section 26102 and in the Transportation, Treasury, and Independent Agencies Appropriations Act, 2004 (included as Division F of the Consolidated Appropriations Act, 2004 (Pub. L. 108-199 (January 23, 2004)). The Secretary of Transportation's responsibilities under this program have been delegated to the Federal Railroad Administration.

Funding: The Transportation, Treasury, and Independent Agencies Appropriations Act, 2004 provides $4,970,000 and directs FRA to award one or more grants to demonstrate Compliant DMU vehicles. It is anticipated that the available funding will support one or two demonstrations. If two grants are awarded, FRA may choose not to award the grants in equal amounts. Additional funding for this or related work may be available in subsequent fiscal years.

Schedule for Demonstration Program: As directed by the Congress, FRA anticipates beginning demonstration in calendar 2004. It is anticipated that evaluation of the demonstration operation will continue for up to two years beyond the initial funding year. FRA anticipates that the eligible participant(s) will, where necessary, contract or otherwise enter into partnerships with developers and manufacturers of Compliant DMUs to accomplish the demonstration.

Eligible Participants: Any United States public transportation agency or combination of such agencies is eligible to apply for funding under this Notice. For state applicants, if the proposed demonstration territory is in more than one state, a single state agency should apply on behalf of all of the participating states.

Eligible Technology Demonstrations: Eligible projects must demonstrate a Compliant DMU vehicle in daily revenue passenger service beginning during calendar year 2004.

Requirements for Statements of Interest: The following points describe minimum content which will be required in Statements of Interest. Each Statement of Interest will:

1. Describe the proposed demonstration in detail, including the location and transportation service to be provided, the anticipated start date and duration of the demonstration, anticipated schedules, passenger service facilities to be employed, anticipated passenger utilization of the demonstration service, and how necessary maintenance and support operations will be conducted. Describe the scope of the demonstration proposed with Federal funding in the amount of $4,970,500 and with Federal funding in the amount of $2,485,250. Note that FRA may choose to award grants for any amount up to and including $4,970,500.

2. Describe the types of DMU technology that the public agency is considering and how the Compliant DMU used in the proposed demonstration will be selected.

3. Describe the rail line on which the proposed demonstration will be conducted, including any discussions the public agency has had with the owner of the rail line in connection with the proposed demonstration.

4. Describe the traffic types (including ownership of trains), volumes, and speeds presently involved in operation on the demonstration track segment(s), the planned Compliant DMU demonstration service volumes and speeds, and the estimated potential corridor service volumes and speeds.

5. Specify the quantities and ownerships of operating vehicles anticipated to be utilized to accomplish the demonstration.

6. Show how the demonstration system initially will operate in relation to existing service, both passenger and freight.

7. Show the estimated total cost and time for accomplishing each task for implementing the demonstration, including estimates broken out, at a minimum, into the following categories: demonstration planning and installation, Compliant DMU equipment acquisition, and operating and maintenance schedules and costs. Specify sources of proposed funding, clearly indicating sources for the required non-Federal dollar-for-dollar cash match.

8. Specify which organizations will supply and install key components of the demonstration system and, to the extent available, provide letters of commitment supporting the proposed activities, schedules, and non-Federal cost sharing. Letters of support from the railroad whose tracks and facilities are to be used for the demonstration should be included.

9. Discuss the systematic operational recording, monitoring, analysis, and reporting procedures to be followed during the demonstration.

10. Discuss plans for training and familiarization of operating and maintenance personnel for the demonstration system.

Format: Statements of Interest may not exceed twenty-five pages in length.

Selection Criteria: The following will be considered to be positive selection factors in evaluating Statements of Interest for this demonstration:

1. The timeliness of the initiation of the demonstration and the availability of the Compliant DMU technology to be demonstrated. Applicants must be able to begin revenue service during calendar year 2004.

2. The extent to which the demonstration will assist in understanding the state-of-the-art in Compliant DMU technology in areas of desired advancement, including safety, reliability, efficiency, operational flexibility, maintainability, capital costs and/or operating costs of the corridor operation, as a whole, as well as of the Compliant DMU equipment itself.

3. The extent to which the demonstration will involve an innovative Compliant DMU technology available for commercial development, as opposed to modification of equipment previously in service but currently not produced.

4. The technological risk associated with successfully demonstrating Compliant DMU technology on the schedule proposed.

5. The compliance of the technology with other Federal requirements, including the Americans with Disabilities Act and relevant diesel emission standards of the U.S. Environmental Protection Agency.

6. The contribution the demonstration might have to the development or expansion of the domestic passenger rail car manufacturing industry.

7. The extent to which the demonstration will have ongoing transportation benefits after the end of the scheduled demonstration.

8. The ability of the Compliant DMU technology to be readily and economically expanded to respond to increased speed, volume, and complexity of traffic.

9. The extent of non-Federal contributions to the demonstration.

Issued in Washington, DC, on March 1, 2004.
Mark E. Yachmetz,
Associate Administrator for Railroad Development.

[FR Doc. 04-5023 Filed 3-4-04; 8:45 am]

BILLING CODE 4910-06-P